DEPARTMENT OF LABOR

Employment and Training Administration

[TA-W-83,367]

Pixel Playground, Inc., Woodland Hills, California; Notice of Revised Determination on Reconsideration

On December 9, 2014, the Department of Labor issued a Notice of Negative Determination Regarding Eligibility to Apply for Worker Adjustment Assistance applicable to workers and former workers of Pixel Playground, Inc., Woodland Hills, California (subject firm). The Department's Notice was published in the Federal Register on September 29, 2014 (79 FR 58383). Workers at the subject firm were engaged in employment related to the supply of digital augmentation services.

In an application dated January 26, 2015, a former worker via legal counsel requested administrative reconsideration of the negative determination applicable to workers and former workers of the subject firm. The request for reconsideration alleges that workers at the subject firm are eligible to apply for Trade Adjustment Assistance (TAA) under Section 222(b) of the Trade Act, 19 U.S.C. 2272(b).

A careful review of administrative record and additional investigation confirmed the following:

Section 222(b)(1) has been met because a significant number or proportion of the workers in such workers' firm have become totally or partially separated, or are threatened to become totally or partially separated.

Section 222(b)(2) has been met because Pixel Playground Inc., Woodland Hills, California is a Supplier to a firm that employed a group of workers who received a certification of eligibility under Section 222(a) of the Act, 19 U.S.C. 2272(a), and such supply is related to the service that was the basis for such certification.

Section 222(b)(3)(B) has been met because the loss of business by Pixel Playground Inc., Woodland Hills, California with the firm that employed a certified worker group contributed importantly to worker separations at Pixel Playground Inc., Woodland Hills, California.

Conclusion

After careful review, I determine that workers and former workers of the subject firm, who are engaged in employment related to the supply of digital augmentation services, meet the worker group certification criteria under Section 222(b) of the Act, 19 U.S.C. 2272(b). In accordance with Section 223 of the Act, 19 U.S.C. 2273, I make the following certification:

All workers of Pixel Playground Inc., Woodland Hills, California, who became totally or partially separated from employment on or after April 23, 2012 through two years from the date of this certification, and all workers in the group threatened with total or partial separation from employment on the date of certification through two years from the date of certification, are eligible to apply for adjustment assistance under Chapter 2 of Title II of the Trade Act of 1974, as amended.

Signed in Washington, DC, this 22nd day of April 2015.
Michael W. Jaffe,
Certifying Officer, Office of Trade Adjustment Assistance.

[FR Doc. 2015-12883 Filed 5-27-15; 8:45 am]

BILLING CODE 4510-FN-P